DEPARTMENT OF TRANSPORTATION

Federal Aviation Administration

14 CFR Part 39

[Docket No. 2000-NM-303-AD; Amendment 39-12265; AD 2001-12-10]

RIN 2120-AA64

Airworthiness Directives; Boeing Model 777-200 Series Airplanes

AGENCY: Federal Aviation Administration, DOT.

ACTION: Final rule.

SUMMARY: This amendment adopts a new airworthiness directive (AD), applicable to certain Boeing Model 777-200 series airplanes, that requires repetitive detailed visual and ultrasonic inspections of the lower flange of the flaperon inboard support to find cracking, and corrective actions, if necessary. This AD also requires a modification, which terminates the repetitive inspections. The actions specified by this AD are intended to prevent fracture of the inboard support structure, which could result in an in-flight loss of the inboard flaperon, structural damage, and consequent reduced controllability of the airplane.

DATES: Effective July 20, 2001.

The incorporation by reference of certain publications listed in the regulations is approved by the Director of the Federal Register as of July 20, 2001.

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Stan Wood, Aerospace Engineer, Airframe Branch, ANM-120S, FAA, Seattle Aircraft Certification Office, 1601 Lind Avenue, SW., Renton, Washington 98055-4056; telephone (425) 227-2772; fax (425) 227-1181.

SUPPLEMENTARY INFORMATION: A proposal to amend part 39 of the Federal Aviation Regulations (14 CFR part 39) to include an airworthiness directive (AD) that is applicable to certain Boeing Model 777-200 series airplanes was published in the Federal Register on January 16, 2001 (66 FR 3521). That action proposed to require repetitive detailed visual and ultrasonic inspections of the lower flange of the flaperon inboard support to find cracking; corrective actions, if necessary; and a modification, which terminates the repetitive inspections.

Comments

Interested persons have been afforded an opportunity to participate in the making of this amendment. Due consideration has been given to the two comments received.

Support for the Proposed Rule

One commenter supports the proposed rule. The second commenter, an airline, states that the proposed rule does not apply to its fleet and offers no further comment.

Conclusion

After careful review of the available data, including the comments noted above, the FAA has determined that air safety and the public interest require the adoption of the rule as proposed.

Cost Impact

There are approximately 9 Boeing Model 777-200 series airplanes of the affected design in the worldwide fleet.

The FAA estimates that 1 airplane of U.S. registry will be affected by this AD. It will take approximately 3 work hours per airplane to accomplish the required inspections, at an average labor rate of $60 per work hour. Based on these figures, the cost impact of the inspections required by this AD on U.S. operators is estimated to be $180 per airplane, per inspection cycle.

It will take approximately 6 work hours per airplane to accomplish the required terminating action, at an average labor rate of $60 per work hour. Required parts will cost approximately $2,932 per airplane. Based on these figures, the cost impact of the terminating action required by this AD on U.S. operators is estimated to be $3,292 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-12-10 Boeing: Amendment 39-12265. Docket 2000-NM-303-AD.

Applicability: Model 777-200 series airplanes, line numbers (L/N) 1 through 9 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent fracture of the inboard support structure of the flaperon, which could result in an in-flight loss of the inboard flaperon, structural damage, and consequent reduced controllability of the airplane, accomplish the following:

Repetitive Inspections

(a) Before the accumulation of 4,000 total flight cycles, or within 90 days after the effective date of this AD, whichever occurs later: Do a detailed visual and an ultrasonic inspection of the lower flange of the flaperon inboard support to find cracks, per Part 1 of the Accomplishment Instructions of Boeing Alert Service Bulletin 777-57A0036, dated June 24, 1999.

(1) If no cracking is found: Repeat the applicable inspections thereafter at intervals not to exceed 300 flight cycles until accomplishment of the terminating action specified in paragraph (b) of this AD.

(2) If any cracking is found, before further flight, do the terminating action required by paragraph (b) of this AD, except, where the service bulletin specifies to contact Boeing for instructions, before further flight, repair per a method approved by the Manager, Seattle Aircraft Certification Office (ACO), FAA; or per data meeting the type certification basis of the airplane approved by a Boeing Company Designated Engineering Representative (DER) who has been authorized by the Manager, Seattle ACO, to make such findings. For a repair method to be approved by the Manager, Seattle ACO, as required by this paragraph, the approval letter must specifically reference this AD.

Terminating Action

(b) On or before the accumulation of 8,000 total flight cycles, or within 1,200 flight cycles after the effective date of this AD, whichever occurs later: Do the terminating action (a high frequency eddy current inspection to find cracks of the aft holes that attach the failsafe strap to the lower flange, oversizing of the holes if cracks are found, and installation of a failsafe strap), per Part 2 of the Accomplishment Instructions of Boeing Alert Service Bulletin 777-57A0036, dated June 24, 1999. Accomplishment of this paragraph terminates the repetitive inspections required by paragraph (a) of this AD.

Alternative Methods of Compliance

(c) An alternative method of compliance or adjustment of the compliance time that provides an acceptable level of safety may be used if approved by the Manager, Seattle ACO. Operators shall submit their requests through an appropriate FAA Principal Maintenance Inspector, who may add comments and then send it to the Manager, Seattle ACO.

Note 2: Information concerning the existence of approved alternative methods of compliance with this AD, if any, may be obtained from the Seattle ACO.

Special Flight Permits

(d) Special flight permits may be issued in accordance with sections 21.197 and 21.199 of the Federal Aviation Regulations (14 CFR 21.197 and 21.199) to operate the airplane to a location where the requirements of this AD can be accomplished.

Incorporation by Reference

(e) Except as provided by paragraph (a)(2) of this AD, the actions shall be done in accordance with Boeing Alert Service Bulletin 777-57A0036, dated June 24, 1999. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(f) This amendment becomes effective on July 20, 2001.

Issued in Renton, Washington, on June 6, 2001.
Donald L. Riggin,
Acting Manager, Transport Airplane Directorate, Aircraft Certification Service.

[FR Doc. 01-14725 Filed 6-14-01; 8:45 am]

BILLING CODE 4910-13-P